NUCLEAR REGULATORY COMMISSION

Request for a License To Export Radioactive Waste

Pursuant to 10 CFR 110.70(C) “Public notice of receipt of an application,” please take notice that the Nuclear Regulatory Commission has received the following request for an export license. Copies of the request are available electronically through ADAMS and can be accessed through the Public Electronic Reading Room (PERR) link http://www.nrc.gov/NRC/ADAMS/index.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

The information concerning this export license application follows.

NRC Export License Application
Name of applicant, date of application, date received, Application No., Docket No. | Description of material: Material type | Description of material: Total quantity | End use | Recipient country
Duratek Services, Inc. April 10, 2006, April 13, 2006, XW010, 11005620 | Class A radioactive waste in various forms either as materials resulting from processing contaminated solids and liquids imported from Canada or as unprocessed, non-conforming contaminated materials imported materials | Not to exceed the total quantity of radioactively contaminated materials imported under NRC import license IW017 | Return of waste resulting from processing contaminated materials which can be attributed to the Canadian generator for ultimate disposal or return of non-conforming contaminated materials, which cannot be processed | Canada.

Dated this 22nd day of May 2006 at Rockville, Maryland.
For the Nuclear Regulatory Commission
Margaret M. Doane,
Deputy Director, Office of International Programs.

[FR Doc. E6-8355 Filed 5-30-06; 8:45 am]

BILLING CODE 7590-01-P